DEPARTMENT OF HEALTH AND HUMAN SERVICES

Health Resources and Services Administration

Supporting Networks of HIV Care Project Cooperative Agreements (SNHC), Program Announcement HRSA 03-102, CFDA # 93.145B

AGENCY: Health Resources and Services Administration, HHS.

ACTION: Notice of availability of funds.

SUMMARY: The Health Resources and Services Administration (HRSA) announces the availability of fiscal year (FY) 2003 Minority AIDS Initiative (MAI) funds allocated from the Department of Health and Human Services General Management Fund to continue the Supporting Networks of HIV Care (SNHC) Project. The total funding available for the SNHC Project is approximately $2.3 million. HRSA will award two cooperative agreements to two separate organizations to implement the SNHC Project in collaboration with the HRSA HIV/AIDS Bureau (HRSA/HAB). The purpose of this announcement is to request Letters of Intent to Apply and applications for these two cooperative agreements. HRSA is requesting Letters of Intent to Apply in order to estimate the number of applications it may receive and thereby plan appropriately for the timely award of these funds. Letters of Intent to Apply are not required to submit an application and they are not binding.

Background: The goal of the SNHC Project is to assist eligible organizations, including small to moderately sized non-profit organizations and faith- and community-based organizations (F/CBO), not currently directly funded by HRSA/HAB for HIV/AIDS service delivery in their efforts to develop, improve, and expand comprehensive HIV primary care, treatment and support service delivery in racial/ethnic minority communities most severely impacted by HIV/AIDS. For the purpose of this project, “communities” refer to both groups of people (i.e., African Americans, substance abusers, men who have sex with men) and geographic areas (i.e., Kansas City, MO; Navajo Territory; Appalachia). The term “severely impacted by HIV/AIDS” is defined as having HIV or AIDS incidence and prevalence rates above the national average within a particular group of people or geographic area. The desired outcome of the SNHC Project is to increase the availability, accessibility, and quality of HIV/AIDS-related services in communities most severely impacted by the disease.

Organizations funded to implement the SNHC Project will work with HRSA/HAB to achieve this goal and outcome by: (1) Identifying and outreaching to small to moderately sized non-profit organizations, including F/CBOs; (2) assessing each eligible organization's commitment and readiness to provide quality HIV primary care, treatment or support services to severely impacted communities; and (3) providing individualized long-term technical assistance designed to help each organization obtain the information, skills, and other resources needed to develop, improve or expand its infrastructure and capabilities. Organizations funded to implement the SNHC Project will respond to the needs of eligible organizations through the development and provision of on-site technical assistance, regional intensive skills building workshops, instructional documents, referrals to local organizations providing similar assistance, and other resources.

Eligible organizations that will receive technical assistance and resources through the SNHC Project must: (1) Be small to moderately sized non-profit organizations, including F/CBOs in the United States and surrounding territories (does not include government or municipal agencies, such as health departments, schools, or public hospitals); (2) have a primary service delivery site that is physically located in or near a community whose residents at risk for or living with HIV are predominantly racial/ethnic minorities; (3) have at least a 3-year history of providing some primary health care or support service (e.g., HIV counseling and testing, substance abuse treatment, housing services, meals on wheels, clinical evaluation, spiritual counseling) to racial/ethnic minority residents in its surrounding community to demonstrate some initial organizational capacity for service delivery and a commitment to serving communities of color; (4) commit to accomplishing and reporting progress on the outcomes of the services received; (5) not be directly funded by the HRSA through the Ryan White CARE Act to provide primary health care or related support services; and (6) not have the financial resources (discretionary funding) to obtain this type of assistance independently.

HRSA will issue two cooperative agreements to two separate organizations to provide assistance and resources to eligible organizations. Funded organizations will work in collaboration with each other, HRSA/HAB staff, and other training, education and capacity building efforts. Specifically, the first cooperative agreement will serve as an Assistance Coordinator to: (1) identify and outreach to small to moderately sized non-profit organizations, including F/CBOs, in the United States and its surrounding territories; (2) review requests and select a number of eligible organizations to receive technical assistance; (3) arrange for assistance to be provided on-site through qualified staff, consultants, peers, mentors, or other local organizations; and (4) implement related activities. The second cooperative agreement will serve as a Resource Coordinator to: (1) Provide intensive regional skills building workshops and develop instructional materials addressing common challenges experienced by small to moderately sized non-profit organizations moving into HIV primary care service delivery; (2) identify, screen and make publicly available pertinent information on technical consultants with expertise in HIV primary care programs; (3) collect and disseminate useful resources regarding HIV primary care service delivery; and (4) implement related activities.

To reduce the time and resources associated with project start-up, HRSA/HAB will encourage funded organizations to adopt and improve upon the outreach strategy, graphic elements, request for service materials, assessment protocols, information management systems, evaluation strategy and other items developed in the first year of the project. More information about the current activities SNHC Project is available at www.hivta.org.

Available Funding: The total amount available is $2.3 million. It is estimated that approximately $1.6 million to $1.8 million will be available to support the Assistance Coordinator Cooperative Agreement, and that approximately $500,000 to $700,000 will be available to support the Resource Coordinator Cooperative Agreement. Awards will be made on or before September 29, 2003. Funding will be made available for 12 months, with a project period of up to three years. Funding levels will be determined annually during each year of the project period and are contingent upon the availability of funding and satisfactory performance. Funding for this project is provided through the Minority AIDS Initiative. Applicants are not required to match or share in project costs if an award is made. However, applicants must propose cost-effective and efficient plans to implement project activities with funds awarded.

Eligible Applicants: Statement of Eligibility for Minority AIDS Initiative Funds' Funding will be directed to activities designed to deliver services specifically targeting racial and ethnic minority populations impacted by HIV/AIDS. Applicants eligible to apply for the SNHC Project cooperative agreements include: not for profit community-based organizations, national organizations, colleges and universities, clinics and hospitals, research institutions, State and local government agencies and Tribal government and Tribal/urban Indian entities and organizations. Faith- and community-based organizations are eligible to apply for these cooperative agreements. This general statement is subject to program specific statutory and/or regulatory requirements.

Priority will be given to applicant organizations and their proposed project staff that have: (1) Experience working with small to moderately sized non-profit organizations, including F/CBOs, racial/ethnic minority-led organizations, and organizations serving racial/ethnic minorities; (2) knowledge of the challenges faced by organizations providing care, treatment and support services to people living with HIV/AIDS; and (3) a commitment to addressing the needs of organizations that provide HIV-related services in communities severely impacted by HIV, as demonstrated by the applicant's organizational mission.

Organizations funded under the SNHC Project will be supported in the development of their own infrastructure and capabilities to continue similar work, consistent with their organizational mission, following the end of the of the project period.

Authorizing Legislation: The authority for these cooperative agreements is Title XXVI, Part F of the Public Health Service Act [Title 42, U.S.C., 300ff-111] as amended by Public Law 106.345, the Ryan White CARE Act Amendments of 2000, dated October 20, 2000.

Program Guidance & Application Kits: To prepare and submit an application, organizations must obtain: (1) The Supporting Networks of HIV Care FY 2003 Project Guidance—HRSA Program Announcement Number HRSA-03-102, Program Code SNHC, Catalogue of Federal Domestic Assistance (CFDA) # 93.145B; and (2) Federal grant application kit required for these cooperative agreements, Public Health Service (PHS) Form 5161-1. The Project Guidance is available on the HIV/AIDS Bureau Web site at the following Internet address: http://www.hab.hrsa.gov/grant.htm. The PHS Form 5161-1 is available at the following Internet address: http://forms.psc.gov/forms/PHS-5161-1/phs-5161-1.html. For those organizations who do not have access to the Internet, hard copies of the Project Guidance and PHS Form 5161-1 may be obtained from the HRSA Grants Application Center (GAC). You can reach the HRSA GAC toll-free by telephone: (877) 477-2123, fax: (877) 477-2345, or e-mail: hrsagac@hrsa.gov.

Letters of Intent To Apply Submission: Letters of Intent to Apply to this program should include the following information for the applicant: (1) The organization name and contact information, (2) a brief organizational capabilities statement, and (3) a brief description of the project model to be proposed. Letters of Intent to Apply should be mailed on or before August 20, 2003 to: Tanesha Burley, Public Health Analyst, HIV/AIDS Bureau, Parklawn Building Room 7-47, 5600 Fishers Lane, Rockville, MD 20857.

Application Submission: In order to be considered for competition, applications to this cooperative agreement program must be received at the HRSA Grants Application Center by close of business on September 4, 2003. Applications shall be considered as meeting the deadline if they are: (1) Received on or before the deadline, or (2) postmarked on or before the deadline date and received in time for orderly processing. Private metered postmarks shall not be acceptable as proof of mailing. Applications received after the deadline will be returned to the applicant and not reviewed. Completed applications should be mailed or delivered to: HRSA Grants Management Center, Attn: Grants Management Officer, CFDA 93.145B, Program Announcement HRSA-03-102 (Code—SNHC), 901 Russell Avenue, Suite 450, Gaithersburg, MD 20879. You will receive a Grant Application Receipt form from the HRSA Grants Application Center to confirm receipt of your application. You also can contact the center directly to confirm receipt.

For Additional Information: Additional information may be obtained from Tanesha Burley, HIV/AIDS Bureau, Parklawn Building Room 7-47, 5600 Fishers Lane, Rockville, MD 20857, telephone: (301) 443-4744, fax: (301) 594-2835, e-mail: tburley@hrsa.gov.

Paperwork Reduction Act: Should any data collection activities associated with the cooperative agreements fall under the purview of the Paperwork Reduction Act (PRA) of 1995, Office of Management and Budget (OMB) clearance will be sought.

Executive Order 12372: The Supporting Networks of HIV Care Project is not subject to Executive Order 12372—Intergovernmental Review of Federal Programs as implemented through 45 CFR, part 100. Executive Order 12372 allows States to review applications submitted to the Federal Government by organizations located in the State through a Singel Point of Contact (SPOC). For a list of States and Territories that participate in the SPOC review process, please go to the following Web site address: http://www.whitehouse.gov/omb/grants/spoc.html.

Dated: July 29, 2003.
Elizabeth M. Duke,
Administrator.

[FR Doc. 03-19800 Filed 8-4-03; 8:45 am]

BILLING CODE 4165-15-P